SMALL BUSINESS ADMINISTRATION

[Disaster Declaration #15425 and #15426; CALIFORNIA Disaster Number CA-00283]

Presidential Declaration Amendment of a Major Disaster for Public Assistance Only for the State of California

AGENCY: U.S. Small Business Administration.

ACTION: Amendment 1.

SUMMARY: This is an amendment of the Presidential declaration of a major disaster for Public Assistance Only for the State of California (FEMA-4353-DR), dated 01/02/2018.

Incident: Flooding, Mudflows, and Debris Flows directly related to the Wildfires.

Incident Period: 12/04/2017 and continuing.

DATES: Issued on 01/10/2018.

Physical Loan Application Deadline Date: 03/05/2018.

Economic Injury (EIDL) Loan Application Deadline Date: 10/02/2018.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: The notice of the President's major disaster declaration for Private Non-Profit organizations in the State of California, dated 01/02/2018, is hereby amended to expand the incident for this disaster to include flooding, mudflow, and debris flows directly related to the wildfires.

All other information in the original declaration remains unchanged.

(Catalog of Federal Domestic Assistance Number 59008)

James E. Rivera,
Associate Administrator for Disaster Assistance.

[FR Doc. 2018-00767 Filed 1-17-18; 8:45 am]

BILLING CODE 8025-01-P